DEPARTMENT OF LABOR

Office of the Secretary

Submission for OMB Review: Comment Request

April 23, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of a currently approved collection.

Title: Economic Survey Schedule.

OMB Number: 1215-0028.

Form Number: WH-1.

Frequency: Biennially.

Type of Response: Reporting.

Affected Public: Business or other for-profit and State, Local, or Tribal Government.

Number of Respondents: 67.

Annual Reponses: 67.

Average Response Time: 45 minutes.

Total Annual Burden Hours: 50.

Total Annualized capital/startup costs: $0.

Total Annual Costs (operating/maintaining systems or purchasing services): $0.

Description: Fair Labor Standards Act (FLSA), 29 U.S.C. 201 et seq., §§ 5, 6(a)(3) and 8 provide that covered, non-exempt employees in American Samoa may be paid at minimum wage rates established by a Special Industry Committee, in lieu of the general federal minimum wage specified in section 6(a)(1) of the Act. The FLSA requires the Committee to recommend to the Secretary of Labor the highest minimum wage rate—not to exceed the rate required under FLSA section 6(a)(1)—that it determines, having due regard to economic and competitive conditions, will not substantially curtail employment in the industry and will not give any industry in American Samoa a competitive advantage over any industry in the U.S. outside of American Samoa. The Committee must consider competitive conditions as affected by transportation, living and production costs; the wages established by collective bargaining agreements in various industries; and wages paid by employers who voluntarily maintain minimum wage standards.

FLSA section 5(d) requires the Secretary of Labor to provide data on the matters the Committee will consider. Regulations 29 CFR 511.6 and 511.11 require that the Administrator of the Wage and Hour Division (WHD) of the U.S. Department of Labor (DOL) prepare for the Committee an economic report containing data pertinent to establishing industry minimum wage rates in American Samoa.

The WHD uses Form WH-1, Economic Survey Schedule, to gather the information necessary to prepare the economic report. The WHD asks all FLSA-covered employers in American Samoa to provide data. Respondents covered by the FLSA in American Samoa may voluntarily provide data concerning business operations and employment on the form. This information is essential to enable the Administrator to prepare the economic report and provide the data cited above for the Committee to use in determining minimum wage rates for the various industries in American Samoa.

Agency: Employment Standards Administration.

Type of Review: Extension of a currently approved collection.

Title: Statement of Recovery Forms.

OMB Number: 1215-0200.

Form Number: CA/EN-1108, SOL/EN-1108, and CA/EN-1122.

Frequency: On occasion.

Type of Response: Reporting.

Affected Public: Business or other for-profit and individuals or households.

Number of Respondents: 3,200.

Form No. | Average response time (hours) | Estimated annual responses | Estimated annual burden hours
CA/EN-1108 | 0.50 | 2,720 | 1,360
SOL/EN-1108 | 0.50 | 160 | 80
CA/EN-1122 | 0.25 | 320 | 80
Total |  | 3,200 | 1,520

Total Annualized capital/startup costs: $0.

Total Annual Costs (operating/maintaining systems or purchasing services): $1,344.

Description: Under section 8131 a Federal employee can sustain a work-related injury, for which he or she is eligible for compensation under the Federal Employees' Compensation Act (FECA), under circumstance that create a legal liability in some third party to pay damages for the same injury. When this occurs, section 8131 of the FECA (5 U.S.C. 8131) authorizes the Secretary of Labor to either require the employee to assign his or her right of action to the United States or to prosecute the action. When the employee receives a payment for his or her damages, whether from a final court judgment on or a settlement of the action, section 8132 of the FECA (5 U.S.C. 8132) provides that the employee “shall refund to the United States the amount of compensation paid by the United States * * *” To enforce the United States' statutory right to this refund, the Office of Workers' Compensation Programs has promulgated regulations that require both the reporting of these types of payments (20 CFR 10.710) and the submission of the type of detailed information necessary to calculate the amount of the required refund (20 CFR 10.707(e)). The information collected by Form CA/EN-1122 is requested from the claimant if he or she received a payment for damages without hiring an attorney. Form CA/EN-1108 requests this information from the attorney if one was hired to bring suit against the third party. Form SOL/EN-1108 request the same information as the CA/EN-1108 if the claimant's attorney contacts the Office of the Solicitor (SOL) directly. These forms are used to obtain information about amounts received as the result of a final judgment in litigation, or a settlement of the litigation, brought against a third party who is liable for damage due to a compensable work-related injury.

Ira L. Mills,
Departmental Clearance Officer.

[FR Doc. E6-6664 Filed 5-2-06; 8:45 am]

BILLING CODE 4510-27-P